DEPARTMENT OF DEFENSE

Department of the Navy

Notice of Extension of Public Comment Period for the Draft Supplemental Environmental Impact Statement for the Disposal and Reuse of Hunters Point Naval Shipyard, San Francisco, CA

AGENCY: Department of the Navy, DoD.

ACTION: Notice.

SUMMARY: The Department of the Navy (Navy) is extending the public comment period for the Draft Supplemental Environmental Impact Statement (SEIS) for the Disposal and Reuse of Hunters Point Naval Shipyard (HPS), San Francisco, California until Friday, May 6, 2011. A Notice of Availability (NOA) and Notice of Public Hearing (NOPH) for the Draft SEIS were published in the Federal Register on Wednesday, February 23, 2011 (Federal Register/Vol. 76, No. 36, Pages 10012-10014/Wednesday, February 23, 2011/Notices). Those notices announced the initial public comment period, including a public hearing that took place on Tuesday, March 15, 2011, and also provided additional information on the background and scope of the Draft SEIS. The initial public comment period requested the submission of all comments on the Draft SEIS to the Navy by Tuesday, April 12, 2011. In response to a request from the U.S. Environmental Protection Agency (EPA), the Navy is extending the public comment period until Friday, May 6, 2011.

FOR FURTHER INFORMATION CONTACT: Director, BRAC PMO West, Attn: Mr. Ronald Bochenek, 1455 Frazee Road, Suite 900, San Diego, CA 92108-4310, telephone 619-532-0906, fax 619-532-9858, e-mail: ronald.bochenek.ctr@navy.mil.

SUPPLEMENTARY INFORMATION: The Navy, as lead agency, has prepared and filed the Draft SEIS for the Disposal and Reuse of HPS, San Francisco, California in accordance with the requirements of the NEPA of 1969 (42 U.S.C. 4321 et seq.) and its implementing regulations (40 CFR parts 1500-1508). The Draft SEIS evaluates the potential environmental consequences associated with the disposal and reuse of HPS. The Draft SEIS is a supplement to the Navy's 2000 Final Environmental Impact Statement for the Disposal and Reuse of HPS (March 2000).

A NOA and NOPH for the Draft SEIS were published in the Federal Register on Wednesday, February 23, 2011 (Federal Register/Vol. 76, No. 36, Pages 10012-10014/Wednesday, February 23, 2011/Notices), to solicit comments on the Draft SEIS from Federal, State, and local agencies and interested members of the public. In response to requests from the EPA, the Navy is extending the public comment period for the Draft SEIS until Friday, May 6, 2011.

The purpose of the proposed action is the disposal of HPS from Federal ownership and its subsequent reuse by the County and City of San Francisco in a manner consistent with the Hunters Point Naval Shipyard Redevelopment Plan as developed by the San Francisco Redevelopment Agency in July 1997, and amended in August 2010. The Draft SEIS has identified and considered six reuse alternatives and a no action alternative. Navy disposal is assumed as part of each reuse alternative.

More information of the Draft SEIS can be found in the previously published NOA and NOPH (see Federal Register/Vol. 76, No. 36, Pages 10012-10014/Wednesday, February 23, 2011/Notices).

Federal, State, and local agencies, as well as interested individuals, are invited and encouraged to review and comment on the Draft SEIS. Comments can be made in the following ways: (1) Written comments mailed to the BRAC PMO address in this notice; or (2) written comments faxed to the BRAC PMO fax number in this notice; or (3) comments submitted via e-mail using the BRAC PMO e-mail address in this notice.

The Draft SEIS has been distributed to various Federal, State, local agencies, and Native American Tribes, as well as other interested individuals and organizations. In addition, copies of the Draft SEIS have been distributed to the following libraries and publicly accessible facilities for public review:

1. San Francisco Main Library, 100 Larkin Street, San Francisco, CA 94102.

2. San Francisco State University Library, 1360 Holloway Avenue, San Francisco, CA 94132.

3. Hastings Law Library, UC Hastings College of the Law, 200 McAllister Street, 4th Floor, San Francisco, CA 94102.

4. Jonsson Library of Government Documents, Cecil H. Green Library, Bing Wing, Stanford, CA 94305-6004.

5. Institute of Governmental Studies Library, UC Berkeley, 109 Moses Hall, #2370, Berkeley, CA 94720.

6. San Francisco Redevelopment Agency (By Appointment), One South Van Ness Avenue, Fifth Floor, San Francisco, CA 94103.

7. City Planning Department (By Appointment), 1650 Mission Street, Fourth Floor, San Francisco, CA 94103.

An electronic copy of the Draft SEIS is also available for public viewing at http://www.bracpmo.navy.mil.

Comments can be submitted in writing or e-mailed to: Director, BRAC PMO West, Attn: Mr. Ronald Bochenek, 1455 Frazee Road, Suite 900, San Diego, CA 92108-4310, fax 619-532-9858, e-mail: ronald.bochenek.ctr@navy.mil.

To be considered, all comments must be received by Friday, May 6, 2011. Such comments will become part of the public record and will be responded to in the Final SEIS.

Dated: April 11, 2011.
D.J. Werner,
Lieutenant Commander, Judge Advocate General's Corps, U.S. Navy, Federal Register Liaison Officer.

[FR Doc. 2011-9271 Filed 4-15-11; 8:45 am]

BILLING CODE 3810-FF-P